DEPARTMENT OF DEFENSE

Department of the Army; Corps of Engineers

Intent To Prepare a Draft Supplemental Environmental Impact Statement (DSEIS) for the Nourishment of 25,000 ft of Beach in Topsail Beach, Onslow County, NC

AGENCY: Department of the Army, U.S. Army Corps of Engineers, DoD.

ACTION: Notice of intent.

SUMMARY: The U.S. Army Corps of Engineers (COE), Wilmington District, Wilmington Regulatory Field Office has received a request for Department of the Army authorization, pursuant to Section 404 of the Clean Water Act and Section 10 of the Rivers and Harbors Act, from the Town of Topsail Beach to conduct an emergency beach fill project to protect ocean front development and infrastructure until such time that a federally authorized shore protection project can be implemented. At this time, the construction date for the Federal project is uncertain. A Draft General Reevaluation Report—Environmental Impact Statement (GRR-EIS has been prepared by the U.S. Army Corps of Engineers (USACE) and was released for public review and comment in June 2006 (USACE, 2006). Given the current status of the GRR-EIS and the need for Congressional authorization, funding, preparation of plans and specifications, and right-of-way acquisition, the Federal project may not be implemented until Fiscal Year 2010, or possibly later.

DATES: A public scoping meeting for the DSEIS will be held at Topsail Beach Assembly Building, located on Channel Boulevard in Topsail Beach, on January 15, 2007 at 6 p.m. Written comments will be received until January 31, 2007.

ADDRESSES: Copies of comments and questions regarding scoping of the DSEIS may be addressed to: U.S. Army Corps of Engineers, Wilmington District, Regulatory Division. ATTN: File Number SAW-2006-40848-071, Post Office Box 1890, Wilmington, NC 28402-1890.

FOR FURTHER INFORMATION CONTACT: Questions about the proposed action and DSEIS can be directed to Mr. Dave Timpy, Wilmington Regulatory Field Office, telephone: (910) 251-4634.

SUPPLEMENTARY INFORMATION: 1. Project Description. The fill placement area will occur between the Topsail Beach/Surf City limit to Godwin Avenue on the ocean beach. The project design will remain consistent with the Federal design and will involve a dune and berm system to be constructed to a height of 15 feet NGVD with a 7 foot NGVD berm height. An optimum berm width of 50 feet is proposed. An offshore sand source area located about 1 mile east of Lea-Hutaff Island is currently being investigated for sediment compatibility with the native beach. The proposed construction timeframe for the emergency beach fill activities will occur in late calendar year 2007 or early calendar year 2008.

Beach Fill Surveys & Design. Typical cross-sections of the beach along the Topsail Beach project area will be surveyed. Nearshore profiles will extend seaward of the monuments to a point equal to or greater than 50 feet seaward of the construction toe of fill. The total volume of beach fill to be placed in front of the existing development and infrastructure will be based on an evaluation of erosion of the project area from 2002 through the expected construction of the Federal project.

Geotechnical Investigations. The offshores and search investigations include approximately two square miles (1,220 acres) of seabed. Offshore investigations include bathymetric surveys, sidescan sonar surveys, seismic and cultural resource surveys, as well as vibracore collection and analysis. The results of the offshore investigations coupled with the compatibility of the sand resource area and native beach sand will be assessed to define the borrow area.

Environmental Resource Coordination & Permitting. The GRR-EIS prepared by the U.S. Army Corps of Engineers prepared an Environmental Impact Statement (EIS) for the larger Federal Shore protection project. The interim (emergency) beach fill project will be subject to Section 10 of the Rivers and Harbors Act, Section 404 of the Clean Water Act and the State Environmental Policy Act (SEPA).

Preliminary coordination with the USACE-Wilmington District resulted in a determination that a Department of the Army Application for an Individual Permit will be needed for project compliance with Sections 10 and 404. Similarly, coordination with the North Carolina Division of Coastal Management determined that the project would require a State EIS developed in accordance with SEPA; as well as a Major Permit under the Coastal Area Management Act.

2. Proposed Action. The scope of activities for the proposed emergency beach fill project includes: (1) Vibracores in the identified borrow area, (b) side scan sonar surveys of the ocean bottom, (c) in-water investigations of potential near shore hard bottom resources identified by the side scan sonar survey, and (d) beach profile surveys. Offshore investigations include bathymetric surveys, sidescan sonar surveys, seismic and cultural resource surveys, as well as vibracore collection and analysis. The results of the offshore investigations coupled with the compatibility of the sand resource area and native beach sand will be assessed to define the borrow area.

3. Issues. There are several potential environmental issues that will be addressed in the DSEIS. Additional issues may be identified during the scoping process. Issues initially identified as potentially significant include:

a. Potential impact to marine biological resources (organisms, passageway for fish and other marine life) and Essential Fish Habitat, particularly Hard Bottoms.

b. Potential impact to threatened and endangered marine mammals, birds, fish, and plants.

c. Potential impacts to water quality.

d. Potential increase in erosion rates to adjacent beaches.

e. Potential impacts to navigation, commercial and recreational.

f. Potential impacts to private and public property.

g. Potential impacts on public health and safety.

h. Potential impacts to recreational and commercial fishing.

i. The compatibility of the material for nourishment.

j. Potential economic impacts.

4. Alternatives. Several alternatives are being considered for the proposed project. These alternatives will be further formulated and developed during the scoping process and an appropriate range of alternatives, including the no action alternative, will be considered in the Supplemental Draft EIS.

5. Scoping Process. A public scoping meeting (see DATES) will be held to receive public comment and assess public concerns regarding the appropriate scope and preparation of the DSEIS. Participation in the public meeting by Federal, State, and local agencies and other interested organizations and persons is encouraged.

The COE will also be consulting with the U.S. Fish and Wildlife Service under the Endangered Species Act and the Fish and Wildlife Coordination Act, and with the National Marine Fisheries Service under the Magnuson-Stevens Act and Endangered Species Act. Additionally, the EIS will assess the potential water quality impacts pursuant to Section 401 of the Clean Water Act, and will be coordinated with the North Carolina Division of Coastal Management (DCM) to determine the projects consistency with the Coastal Zone Management Act. The COE will closely work with DCM through the EIS to ensure the process complies with all State Environmental Policy Act (SEPA) requirements. It is the COE and DCM's intentions to consolidate both NEPA and SEPA processes to eliminate duplications.

6. Availability of the Draft Supplemental EIS. The DSEIS is expected to be published and circulated sometime in early 2007, and a public hearing will be held after the publication of the DSEIS.

Dated: December 4, 2006.
John E. Pulliam, Jr.
Colonel, U.S. Army, District Commander.

[FR Doc. 06-9727 Filed 12-14-06; 8:45 am]

BILLING CODE 3710-GN-M